DEPARTMENT OF AGRICULTURE

Submission for OMB Review; Comment Request

September 30, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: 2008 Aquaculture Grant Program—Recovery Act.

OMB Control Number: 0560-0262.

Summary of Collection: Section 102(d) of the American Recovery and Reinvestment Act of 2009 (Recovery Act) authorizes $50 million for a 2008 Aquaculture Grant Program (AGP). As required by the Recovery Act, Commodity Credit Corporation (CCC) funds will be used to provide block grants to State Departments of Agriculture that agree to provide AGP assistance to eligible aquaculture producers for losses associated with high feed input costs during the 2008 calendar year. The Recovery Act requires the States to complete and submit a 2008 AGP Financial Report to CCC.

Need and Use of the Information: States must submit to CCC, a report that describes: (1) The manner in which the State provided assistance; (2) the amounts of assistance provided per species of aquaculture; and (3) the process by which the state determines the levels of assistance to eligible aquaculture producers. The collected information will be used to ensure that an eligible aquaculture producer that receives assistance under AGP is not eligible to receive any other assistance under the supplemental agricultural disaster assistance program established under section 531 of the Federal Crop Insurance Act and section 901 of the Trade Act of 1974 for any losses in 2008 relating to the same species of aquaculture.

Description of Respondents: State, Local or Tribal Government.

Number of Respondents: 37.

Frequency of Responses: Reporting: Other (Once).

Total Burden Hours: 28.

Ruth Brown,
Departmental Information Collection Clearance Officer.

[FR Doc. E9-23935 Filed 10-2-09; 8:45 am]

BILLING CODE 3410-05-P